DEPARTMENT OF DEFENSE

Department of the Army, Corps of Engineers

Availability of the Draft Feasibility Report and Environmental Impact Statement/Environmental Impact Report for the Prado Basin Ecosystem Restoration and Water Conservation Integrated Feasibility Study, Riverside, San Bernardino and Orange Counties, California

AGENCY: U. S. Army Corps of Engineers, DoD.

ACTION: Notice of availability.

SUMMARY: The U.S. Army Corps of Engineers (Corps) in cooperation with the Orange County Water District announces the availability of a Draft Feasibility Report and Environmental Impact Statement/Environmental Impact Report (FR/EIS/EIR) for the Prado Basin Ecosystem Restoration and Water Conservation Integrated Feasibility Study for review and comment. The study area is located within and downstream of Prado Dam Reservoir and includes portions of Riverside, San Bernardino and Orange Counties, California. The study evaluates alternatives for the restoration of degraded ecosystem structure, function, and dynamic processes to a less degraded, more natural condition within Prado Dam Reservoir and the Santa Ana River downstream of the dam. The study also includes water conservation through re-operation of Prado Dam to capture, retain and release additional water volumes impounded during flood risk management operations. Details of the potential ecosystem restoration measures, water conservation plan and an array of alternatives are identified in the Draft FR/EIS/EIR. Four alternatives are evaluated in the Draft FR/EIS/EIR, including the No Federal Action/No Project Alternative. Potential environmental impacts associated with these project alternatives are addressed in the Draft FR/EIS/EIR. A Notice of Intent for the EIS/EIR was published on November 16, 2012 (73 FR 72455).

DATES: The Draft FR/EIS/EIR is available for a 45-day review period from February 11, 2019 through March 27, 2019 pursuant to the National Environmental Policy Act (NEPA) and California Environmental Quality Act (CEQA). Written comments pursuant to NEPA will be accepted until the close of public review at close of business on March 27, 2019.

ADDRESSES: Comments shall be submitted to: Mr. Eduardo Demesa, U.S. Army Corps of Engineers, Los Angeles District, Planning Division, 915 Wilshire Boulevard, Los Angeles, CA 90017; ATTN: Ms. Megan Wong, CESPL-PDR-N.

FOR FURTHER INFORMATION CONTACT: Ms. Megan Wong, Environmental Coordinator, Ecosystem Planning Section, Megan.T.Wong@usace.army.mil, telephone (213) 448-4517; or Mr. Stuart Strum, Senior Planner, Plan Formulation Branch/Section A, Stuart.R.Strum@usace.army.mil, telephone (213) 452-3862.

SUPPLEMENTARY INFORMATION: As part of the public involvement process, notice is hereby given by the Corps Los Angeles District of a public meeting to be held at the Prado Dam Resident Office, Visitor Center, 2493 Pomona-Rincon Road, Corona, CA 92880, at 2:00 p.m. and at 6:00 p.m. (Pacific Standard Time), Thursday, March 7, 2019. The public meeting will allow participants the opportunity to comment on the Draft FR/EIS/EIR. Attendance at the public hearing is not necessary to provide comments. Written comments may also be given to the contacts listed under ADDRESSES.

The document is available for review at:

(1) Online at https://www.spl.usace.army.mil/Missions/Civil-Works/Projects-Studies/Prado-Basin-Feasibility-Study/.

(2) List of Libraries; CD and Hard Copy.

Anaheim Public Library, 500 West Broadway, Anaheim, CA 92805

Yorba Linda Public Library, 18181 Imperial Highway, Yorba Linda, CA 92886

Corona Public Library, 650 Main Street, Corona, CA 92882

Norco Public Library, 3240 Hamner Ave., Suite 101B, Norco, CA 91760

Eastvale Branch Library, 7447 Scholar Way, Eastvale, CA 92880

Riverside Public Library, 3581 Mission Inn Avenue, Riverside, CA 92501

UC Riverside General Library, PO Box 5900, Riverside, CA 92517

San Bernardino County Library, 555 West 6th Street, San Bernardino, CA 92410

Chino Branch Library, 13180 Central Ave., Chino, CA 91710

Chino Hills Branch Library, 14020 City Center Drive, Chino Hills, CA 91709

Dated: February 1, 2019.
Aaron C. Barta,
Colonel, U.S. Army, Commander and District Engineer.

[FR Doc. 2019-01649 Filed 2-7-19; 8:45 am]

BILLING CODE 3720-58-P